DEPARTMENT OF TRANSPORTATION

Federal Transit Administration

[FTA Docket No. FTA-2009-0032]

Agency Information Collection Activity Under OMB Review

AGENCY: Federal Transit Administration, DOT.

ACTION: Notice of request for comments.

SUMMARY: In accordance with the Paperwork Reduction Act of 1995 (44 U.S.C. 3501 et seq.), this notice announces that the Information Collection Request (ICR) abstracted below has been forwarded to the Office of Management and Budget (OMB) for approval. The Federal Register Notice with a 60-day comment period soliciting comments was published on April 27, 2008. No comments were received in response to that notice.

DATES: Comments must be submitted before August 12, 2009. A comment to OMB is most effective if OMB receives it within 30 days of publication.

FOR FURTHER INFORMATION CONTACT: LaStar Matthews, Office of Administration, Office of Management Planning, (202) 366-2295 or e-mail: LaStar.Matthews@dot.gov.

SUPPLEMENTARY INFORMATION: Title: Transit Investments in Greenhouse Gas and Energy Reduction Program (OMB Number: 2132-0566).

Abstract: The American Recovery and Reinvestment Act of 2009 (ARRA) established the Transit Investments in Greenhouse Gas and Energy Reduction (TIGGER) Program. This program is a new $100,000,000 discretionary grant program to support public transit agencies in making capital investments that will assist in reducing the energy consumption or greenhouse gas emissions of their public transportation systems.

The information collected is submitted as part of the application for grants used to determine eligibility of applicants and project selection. Collection of project management information also provides documentation that the applicants and recipients are meeting program objectives and are complying with FTA Circular 5010.1D Grant Management Requirements and other federal requirements.

To meet the requirements of the American Recovery and Reinvestment Act, FTA requested an emergency approval from OMB for the Transit Investments in Greenhouse Gas and Energy Reduction Program. OMB approved FTA's emergency request for approval on March 10, 2009. The OMB Control Number is 2132-0566. FTA published a Federal Register Notice for Solicitation of Comments and Notice of Availability of Fiscal Year 2009 Funding for Transit Investments in Greenhouse Gas and Energy Reduction Grants on March 24, 2009.

Estimated Total Annual Burden: 32,080 hours.

ADDRESSES: All written comments must refer to the docket number that appears at the top of this document and be submitted to the Office of Information and Regulatory Affairs, Office of Management and Budget, 725—17th Street, NW., Washington, DC 20503, Attention: FTA Desk Officer.

Comments Are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Issued: July 7, 2007.
Ann M. Linnertz,
Associate Administrator for Administration.

[FR Doc. E9-16509 Filed 7-10-09; 8:45 am]

BILLING CODE 4910-57-P